DEPARTMENT OF EDUCATION

[Docket No. ED-2020-SCC-0039]

Agency Information Collection Activities; Submission to the Office of Management and Budget for Review and Approval; Comment Request; Impact Evaluation To Inform the Teacher and School Leader Incentive Program

AGENCY: National Center for Education Statistics (NCES), Department of Education (ED).

ACTION: Notice.

SUMMARY: In accordance with the Paperwork Reduction Act of 1995, ED is proposing a revision of an existing information collection.

DATES: Interested persons are invited to submit comments on or before June 4, 2020.

ADDRESSES: Written comments and recommendations for proposed information collection requests should be sent within 30 days of publication of this notice to www.reginfo.gov/public/do/PRAMain. Find this particular information collection request by selecting “Department of Education” under “Currently Under Review,” then check “Only Show ICR for Public Comment” checkbox.

FOR FURTHER INFORMATION CONTACT: For specific questions related to collection activities, please contact Thomas Wei, 646-428-3892.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Impact Evaluation to Inform the Teacher and School Leader Incentive Program.

OMB Control Number: 1850-0950.

Type of Review: A revision of an existing information collection.

Respondents/Affected Public: State, Local, and Tribal Governments.

Total Estimated Number of Annual Responses: 1,995.

Total Estimated Number of Annual Burden Hours: 853.

Abstract: This study will meet the Congressional mandate to evaluate the Teacher and School Leader Incentive Program (TSL) by including two evaluation components: (1) Descriptive study of Teacher and School Leader Incentive Program (TSL) grantees', and (2) Implementation, impact, and cost-effectiveness study of designating one or more “teacher leaders” as coaches in schools. It will provide updated information about the TSL program to help ED understand which strategies grantees are using and how effective a commonly-used strategy—designating teacher leaders to provide coaching to other teachers—is in improving educator effectiveness and ultimately student achievement.

Dated: April 30, 2020.
Stephanie Valentine,
PRA Coordinator, Strategic Collections and Clearance, Governance and Strategy Division, Office of Chief Data Officer, Office of Planning, Evaluation and Policy Development.

[FR Doc. 2020-09573 Filed 5-4-20; 8:45 am]

BILLING CODE 4000-01-P